DEPARTMENT OF COMMERCE

International Trade Administration

[A-570-947]

Certain Steel Grating From the People's Republic of China: Notice of Correction to the Final Determination of Sales at Less Than Fair Value and Antidumping Duty Order

AGENCY: Import Administration, International Trade Administration, Department of Commerce.

DATES: Effective Date: November 15, 2010.

FOR FURTHER INFORMATION CONTACT: Thomas Martin, AD/CVD Operations, Office 4, Import Administration, International Trade Administration, U.S. Department of Commerce, 14th Street and Constitution Avenue, NW., Washington, DC 20230; telephone: (202) 482-3936.

SUPPLEMENTARY INFORMATION:

Correction

On June 8, 2010, the Department of Commerce (“the Department”) published the final results of the investigation for certain steel grating from the People's Republic of China (“PRC”). See Certain Steel Grating From the People's Republic of China: Final Determination of Sales at Less Than Fair Value, 75 FR 32366 (June 8, 2010) (“Final Determination”). On July 23, 2010, the Department published the antidumping duty order pursuant to the investigation. See Certain Steel Grating from the People's Republic of China: Antidumping Duty Order, 75 FR 43143 (July 23, 2010) (“Order”). Subsequent to the announcement and release of the Final Determination and Order, the Department identified an inadvertent error in both Federal Register notices.

Specifically, the Final Determination and Order incorrectly reversed the headings for the “Manufacturer” and “Exporter” in the rate tables printed in the notices. As a result of these errors, the notices incorrectly indicated that a combination rate was applicable to Ningbo Haitian International Co., Ltd. (“Ningbo Haitian”) as the manufacturer and Ningbo Lihong Steel Grating Co., Ltd (“Ningbo Lihong”) as the exporter. See Final Determination, 75 FR at 32369; see also Order, 75 FR at 43144. The notices should have indicated that Ningbo Haitian was the exporter, and that Ningbo Lihong was the manufacturer. The revised rate table should read as follows:

Exporter | Manufacturer | Antidumping duty percent margin
Sinosteel Yantai Steel Grating Co., Ltd | Sinosteel Yantai Steel Grating Co., Ltd | 136.76
Ningbo Haitian International Co., Ltd | Ningbo Lihong Steel Grating Co., Ltd | 136.76
Yantai Xinke Steel Structure Co., Ltd | Yantai Xinke Steel Structure Co., Ltd | 136.76
PRC-wide Entity ¹ |  | 145.18
¹ Ningbo Jiulong Machinery Manufacturing Co., Ltd., Ningbo Zhenhai Jiulong Electronic Equipment Factory and Shanghai DAHE Grating Co., Ltd. are part of the PRC-wide entity.

This notice is published in accordance with section 777(i) of the Tariff Act of 1930, as amended.

Dated: November 8, 2010.
Ronald K. Lorentzen,
Deputy Assistant Secretary for Import Administration.

[FR Doc. C1-2010-28688 Filed 11-12-10; 8:45 am]

BILLING CODE 3510-DS-P